NUCLEAR REGULATORY COMMISSION

Draft NUREG-1824, “Verification & Validation of Selected Fire Models for Nuclear Power Plant Applications,” Draft for Comment

AGENCY: Nuclear Regulatory Commission (NRC).

ACTION: Notice of availability of Draft NUREG-1824, “Verification & Validation of Selected Fire Models for Nuclear Power Plant Applications” and request for public comment.

SUMMARY: The NRC is announcing the availability of Draft NUREG-1824, “Verification & Validation of Selected Fire Models for Nuclear Power Plant Applications Volumes 1 through 7,” for public comment.

DATES: Comments on this document should be submitted by March 31, 2006. Comments received after that date will be considered to the extent practicable. To ensure efficient and complete comment resolution, comments should include references to the section, page, and line numbers of the document to which the comment applies, if possible.

ADDRESSES: Members of the public are invited and encouraged to submit written comments to Michael Lesar, Chief, Rules and Directives Branch, Office of Administration, Mail Stop T6-D59, U.S. Nuclear Regulatory Commission, Washington, DC 20555-0001. Hand-deliver comments to Michael Lesar, 11545 Rockville Pike, Rockville, MD, between 7:30 a.m. and 4:15 p.m. on Federal workdays. Comments may also be sent electronically to NRCREP@nrc.gov.

This document is available at the Agencywide Documents Access and Management System (ADAMS) Public Electronic Reading Room on the Internet at the NRC Web site at http://www.nrc.gov/reading-rm/adams.html under Accession No. ML060060541; on the NRC Web site at http://www.nrc.gov/ reading-rm/doc-collections/nuregs/docs4comment.html; and at the NRC Public Document Room, 11555 Rockville Pike, Rockville, MD. The PDR's mailing address is USNRC PDR, Washington, DC 20555; telephone (301) 415-4737 or (800) 397-4205; fax (301) 415-3548; e-mail PDR@NRC.GOV.

FOR FURTHER INFORMATION CONTACT: Mark H. Salley, Fire Research Team, Probabilistic Risk Assessment Branch, Office of Nuclear Regulatory Research, telephone (301) 415-2840, e-mail mxs3@nrc.gov.

SUPPLEMENTARY INFORMATION: Verification & Validation of Selected Fire Models for Nuclear Power Plant Applications.

Draft NUREG-1824, “Verification & Validation of Selected Fire Models for Nuclear Power Plant Applications”

The purpose of this document entitled “Verification & Validation of Selected Fire Models for Nuclear Power Plant Applications” Draft Report for Comment (NUREG-1824), is to document the verification and validation of five (5) fire modeling tools commonly used in nuclear power plant (NPP) applications. This project was performed in accordance with the guidelines described in the American Society for Testing and Materials (ASTM) Standard E 1355-04, “Evaluating the Predictive Capability of Deterministic Fire Models.” Under a joint Memorandum of Understanding (MOU), the NRC Office of Nuclear Regulatory Research (RES) and the Electric Power Research Institute (EPRI) have agreed to collaboratively develop this technical document to support the application of these fire modeling tools in nuclear power plants. A library of typical NPP fire scenarios, and information on the ability of specific fire models to predict the consequences of typical NPP fire scenarios are provided. Technical review of fire models is necessary to ensure that analysts can judge the adequacy of the scientific and technical basis for the models, select models appropriate for a desired use, and understand the levels of confidence that can be placed in the results predicted by the models. This work was performed using state of the art fire dynamics calculation methods/models and the most applicable fire test data. Future improvements in the fire dynamics calculation methods/models and additional fire test data may impact the results of these reports.

The NRC is seeking public comment in order to receive feedback from the widest range of interested parties and to ensure that all information relevant to developing this document is available to the NRC staff. This document is issued for comment only and is not intended for interim use. The NRC will review public comments received on the document, incorporate suggested changes as necessary, and issue the final NUREG-1824 for use.

Dated at Rockville, MD, this 18th day of January 2006.
For the Nuclear Regulatory Commission.
Charles E. Ader,
Director, Division of Risk Analysis and Applications, Office of Nuclear Regulatory Research.

[FR Doc. E6-1201 Filed 1-30-06; 8:45 am]

BILLING CODE 7590-01-P